DEPARTMENT OF ENERGY

Federal Energy Regulatory Commission

[Docket No. EL14-6-000]

City of Pella, Iowa v. Midcontinent Independent System Operator, Inc., Mid-American Energy Company; Notice of Complaint

Take notice that on October 23, 2013, pursuant to section 206 of the Federal Power Act (FPA), 16 U.S.C. 824e and Rule 206 of the Federal Energy Regulatory Commission's (Commission) Rules of Practice and Procedure, 18 CFR 385.206 (2013), The City of Pella, Iowa (Complainant) filed a formal complaint against Midcontinent Independent System Operator, Inc. and MidAmerican Energy Company (collectively, Respondents), requesting that the Commission enforce the terms of the settlement agreement approved by the Commission on July 16, 2012, in Docket Nos. EL10-77-000 and EL10-77-001.¹ In addition, or in the alternative, the Complainant requests that the Commission find that Midcontinent Independent System Operator, Inc. unjustly and unreasonably violated the FPA by refusing to compensate the Complainant for operating generation for grid support.

¹ City of Pella, Iowa v. Midcontinent Independent System Operator, Inc. and MidAmerican Energy Company, 140 FERC ¶ 61,029 (2012).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on November 12, 2013.

Dated: October 24, 2013.
Kimberly D. Bose,
Secretary.

[FR Doc. 2013-25854 Filed 10-30-13; 8:45 am]

BILLING CODE 6717-01-P